DEPARTMENT OF HEALTH AND HUMAN SERVICES

National Institutes of Health

Request for Information on “Update on Selected Topics in Asthma Management 2020: A Report From the National Asthma Education and Prevention Program Coordinating Committee (NAEPPCC) Expert Panel Report 4 (EPR-4) Working Group”; Correction

AGENCY: National Institutes of Health, HHS.

ACTION: Notice; correction.

SUMMARY: The Department of Health and Human Services, National Institutes of Health published a Notice in the Federal Register on December 2, 2019. That Notice requires a correction in the Dates section.

FOR FURTHER INFORMATION CONTACT: Questions about this request for information should be directed to Susan T. Shero, RN, MS, Executive Secretary, NAEPPCC, National Heart, Lung, and Blood Institute, National Institutes of Health, 6701 Rockledge Blvd., Rm. 9182, Bethesda, MD 20892, Asthma2020Guidelines@westat.com, 301-496-1051.

SUPPLEMENTARY INFORMATION:

Correction

In the Federal Register of December 2, 2019, in FR Doc. 2019-26017, on page 65991, in the third column, correct the Dates caption to read:

DATES: The NHLBI NAEPPCC RFI is open for public comment for a period of 35 days. Comments must be received by January 17, 2020 to ensure consideration. After the public comment period has closed, the comments received will be considered in a timely manner by the NHLBI NAEPPCC Expert Panel Working Group.

Dated: December 4, 2019.
Daniel R. Hernandez,
Federal Register Officer, National Institutes of Health.

[FR Doc. 2019-26502 Filed 12-9-19; 8:45 am]

BILLING CODE 4140-01-P